DEPARTMENT OF HEALTH AND HUMAN SERVICES

Administration on Aging

[Program Announcement No. AoA-00-2]

Fiscal Year 2000 Program Announcement; Availability of Funds and Notice Regarding Applications

AGENCY: Administration on Aging, HHS.

ACTION: Announcement of availability of funds and request for applications for the Alzheimer's Disease Demonstration Grants to States Program, to (1) develop models of assistance for persons with Alzheimer's disease and their families, and (2) improve the responsiveness of existing home and community based care systems for persons with Alzheimer's disease and related disorders and their families.

APPLICANT ELIGIBILITY AND REQUIREMENTS: Eligibility for grant awards is limited to state agencies. Only one application per state will be accepted. Applicants must provide a letter from their state's Governor designating the applicant agency as the sole applicant for the state. Grantees are required to provide a 25% non-federal match during the first year, 35% during the second year, and 45% during the third year of the grant.

SUMMARY: The Administration on Aging announces that under this program announcement it will hold a competition for grant awards for fourteen (14) to twenty (20) projects that develop services and assistance, and improve the home and community based care system to better respond to the needs of persons with Alzheimer's disease, their families, and caregivers.

The deadline date for the submission of applications is April 21, 2000.

Application kits are available by writing to the Department of Health and Human Services, Administration on Aging, Immediate Office of the Assistant Secretary for Aging, 200 Independence Ave., SW, HHH Building, Room 309-F, Washington, DC 20201, or by calling 202/401-4547 or 202/401-4634.

Dated: February 14, 2000.
Jeanette C. Takamura,
Assistant Secretary for Aging.

[FR Doc. 00-3931 Filed 2-17-00; 8:45 am]

BILLING CODE 4154-01-U